DEPARTMENT OF TRANSPORTATION

Federal Aviation Administration

Seventy Ninth Meeting: RTCA Special Committee 147, Minimum Operational Performance Standards for Traffic Alert and Collision Avoidance Systems Airborne Equipment

AGENCY: Federal Aviation Administration (FAA), U.S. Department of Transportation (DOT).

ACTION: Meeting Notice of RTCA Special Committee 147, Minimum Operational Performance Standards for Traffic Alert and Collision Avoidance Systems Airborne Equipment.

SUMMARY: The FAA is issuing this notice to advise the public of the Seventy Nineth meeting of RTCA Special Committee 147, Minimum Operational Performance Standards for Traffic Alert and Collision Avoidance Systems Airborne Equipment.

DATES: The meeting will be held September 11th, 2014, from 9:00 a.m. to 5:00 p.m.

ADDRESS: The meeting will be held at 1150 18th St. NW., Suite 910 Washington, DC 20036

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. No. 92-463, 5 U.S.C., App.), notice is hereby given for a meeting of Special Committee 147. The agenda will include the following:

September 11

• Opening Plenary Session

○ Chairmen's Opening Remarks/Introductions

○ Approval of Summary from 78th meeting of SC-147

○ Approval of Agenda

• Report from WG-75

• Review of ISRA deliverable for SC 228

• EUROCONTROL Report

• Report from WG-1 (Surveillance and Tracking)

• Report from WG-2 (Threat Resolution)

○ Threat Resolution

○ Xo sub group

○ Safety sub-group

• Review of the Software Development Agreement

• Coordination Stress Testing

• Operational Team Updates

• Review of Decisions

○ Use of ADS-B Only targets

• Additional business/Overflow if time permits

○ Solicitation of vendor data for SWG/TOO analysis

• Closing Session

○ Next Meeting Location

○ Action Item review

○ End Meeting

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 14, 2014.
Mohannad Dawoud,
Management Analyst, NextGen, Business Operations Group, Federal Aviation Administration.

[FR Doc. 2014-19692 Filed 8-18-14; 8:45 am]

BILLING CODE 4910-13-P